ARCHITECTURAL AND TRANSPORTATION BARRIERS COMPLIANCE BOARD

36 CFR Parts 1191, 1193, and 1194

[Docket No. 2010-1]

RIN 3014-AA37

Americans With Disabilities Act (ADA) Accessibility Guidelines for Buildings and Facilities; Telecommunications Act Accessibility Guidelines; Electronic and Information Technology Accessibility Standards

AGENCY: Architectural and Transportation Barriers Compliance Board.

ACTION: Notice of hearing.

SUMMARY: The Architectural and Transportation Barriers Compliance Board (Access Board) will hold a public hearing on its refresh of accessibility criteria for information and communication technologies covered by the Rehabilitation Act (section 508) and the Telecommunications Act (section 255). The hearing will focus on a draft of updated standards and guidelines made available for public comment on March 22. As part of this rulemaking, the Board proposes to supplement its Americans with Disabilities Act Accessibility Guidelines to address access to self-service machines such as point-of-sales machines and ticketing kiosks.

DATES: The hearing will be on May 12, 2010 from 9 a.m. until 12 p.m.

ADDRESSES: The hearing will be held at the Embassy Suites, DC Convention Center, 900 10th Street, NW., Washington, DC 20001.

FOR FURTHER INFORMATION CONTACT: Tim Creagan, Office of Technical and Information Services, Architectural and Transportation Barriers Compliance Board, 1331 F Street, NW., suite 1000, Washington, DC 20004-1111. Telephone number: 202-272-0016 (voice); 202-272-0082 (TTY). Electronic mail address: creagan@access-board.gov.

SUPPLEMENTARY INFORMATION: On March 22, 2010, the Access Board published an advance notice of proposed rulemaking in the Federal Register to begin the process of updating its standards for electronic and information technology covered by section 508 of the Rehabilitation Act Amendments of 1998 and its guidelines for telecommunications equipment covered by Section 255 of the Telecommunications Act of 1996. At part of this rulemaking, the Board is proposing to revise its Americans with Disabilities Act Accessibility Guidelines to address access to self-service machines used for ticketing, check-in or check-out, seat selection, boarding passes, or ordering food in restaurants and cafeterias. 75 FR 13457 (March 22, 2010). The Board has released for public comment a draft of updated standards and guidelines which is available on the Board's Web site (http://www.access-board.gov/508.htm).

The Board is responsible for developing and keeping up to date standards for electronic and information technology covered by section 508 of the Rehabilitation Act. Section 508 requires access to electronic and information technology developed, procured, maintained, or used by Federal agencies and departments to the extent that it does not impose an undue burden. The Board's section 508 standards, which were originally published in 2000 and are part of the Federal government's procurement regulations, provide technical and functional performance criteria for technologies covered by the law. Section 508 requires the Board to periodically review and amend the standards to reflect technological advances or changes in electronic and information technology.

The Board is updating its Telecommunications Act Accessibility Guidelines jointly with its refresh of the section 508 standards to harmonize both documents and to facilitate compliance. Section 255 of the Telecommunications Act requires telecommunications equipment and customer premises equipment to be accessible to and usable by individuals with disabilities when it is readily achievable to do so. The Board is responsible for developing and periodically updating accessibility guidelines for telecommunications equipment and customer premises equipment covered by section 255 in conjunction with the Federal Communications Commission. The Board first issued its guidelines under section 255 in 1998.

The Board is also proposing to amend the Americans with Disabilities Act Accessibility Guidelines (ADAAG) to address access to self-service machines used for ticketing, check-in or check-out, seat selection, boarding passes, or ordering food in restaurants and cafeterias.

The draft standards and guidelines are available for public comment until June 21, 2010. The Board will hold a hearing in Washington, DC that will provide the public an opportunity to comment on the draft rule. This hearing will take place during the Access Board's regularly scheduled Board meeting on May 12, 2010 from 9 a.m. until 12 p.m. at the Embassy Suites, DC Convention Center, 900 10th Street, NW., Washington, DC 20001. The Board previously held a hearing on the draft rule in San Diego, CA on March 25, 2010 in conjunction with the 25th Annual International Technology and Persons with Disabilities Conference.

The hearing location is accessible to individuals with disabilities. Sign language interpreters and real-time captioning will be provided. For the comfort of other participants, persons attending the hearing are requested to refrain from using perfume, cologne, and other fragrances. To pre-register to testify, please contact Kathy Johnson at (202) 272-0041, (202) 272-0082 (TTY), or johnson@access-board.gov.

David M. Capozzi,
Executive Director.

[FR Doc. 2010-8309 Filed 4-12-10; 8:45 am]

BILLING CODE 8150-01-P